NUCLEAR REGULATORY COMMISSION

[NRC-2010-0143]

Proposed International Isotopes Fluorine Extraction Process and Depleted Uranium Deconversion Plant in Lea County, New Mexico

AGENCY: Nuclear Regulatory Commission.

ACTION: Final environmental impact statement; issuance.

SUMMARY: Notice is hereby given that the U.S. Nuclear Regulatory Commission (NRC or the Commission) has published the Final Environmental Impact Statement (EIS) for the proposed International Isotopes Fluorine Extraction Process and Depleted Uranium Deconversion Plant (INIS) in Lea County, New Mexico. On December 30, 2009, International Isotopes Fluorine Products, Inc. (IIFP), a wholly-owned subsidiary of International Isotopes, Inc., submitted a license application that proposes the construction, operation, and decommissioning of a fluorine extraction and depleted uranium deconversion facility (the “proposed action”). IIFP proposes to locate the facility near Hobbs, New Mexico.

ADDRESSES: Please refer to Docket ID NRC-2010-0143 when contacting the NRC about the availability of information regarding this document. You may access information related to this document using any of the following methods:

• Federal Rulemaking Web site: Go to http://www.regulations.gov and search for Docket ID NRC-2010-0143. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Additional information regarding accessing materials related to this action is under the Document Availability heading in the SUPPLEMENTARY INFORMATION section of this document.

• NRC's PDR: You may examine and purchase copies of public documents at the NRC's PDR, Room O1-F21, One White Flint North, 11555 Rockville Pike, Rockville, Maryland 20852.

FOR FURTHER INFORMATION CONTACT: For information about the Final EIS or the environmental review process, please contact Asimios Malliakos, telephone: 301-415-6458; email: Asimios.Malliakos@nrc.gov; Office of Federal and State Materials and Environmental Management Programs, U.S. Nuclear Regulatory Commission, Washington, DC 20555-0001. For general or technical information associated with the licensing process as it relates to the INIS application, please contact Matthew Bartlett, telephone: 301-492-3119; email: Matthew.Bartlett@nrc.gov; Office of Nuclear Material Safety and Safeguards, U.S. Nuclear Regulatory Commission, Washington, DC 20555-0001.

SUPPLEMENTARY INFORMATION:

Discussion

IIFP submitted a license application and Environmental Report (ER) in support of its proposed facility on December 30, 2009. The proposed site is located in Lea County, New Mexico, approximately 22.55 kilometers (km) (14 miles [mi]) west of the city of Hobbs.

The Final EIS is being issued as part of the NRC's process to decide whether to issue a license to IIFP, pursuant to Part 40 of Title 10 of the Code of Federal Regulations (10 CFR), to construct and operate the proposed depleted uranium deconversion facility. Specifically, IIFP proposes to deconvert depleted uranium hexafluoride (DUF6) into oxide compounds for long-term disposal. In the Final EIS, the NRC staff assessed the potential environmental impacts from construction, operation, and decommissioning of the proposed INIS project.

The Final EIS was prepared in compliance with the National Environmental Policy Act of 1969, as amended (NEPA), and the NRC's regulations for implementing NEPA in 10 CFR Part 51. The NRC staff assessed the impacts of the proposed action on land use, historic and cultural resources, visual resources, climatology, meteorology, and air quality, geology, minerals, and soil, water resources, ecological resources, socioeconomics and environmental justice, traffic and transportation, noise, public and occupational health, and waste management. Additionally, the NRC staff analyzed and compared the benefits and costs of the proposed action. In preparing this Final EIS, the NRC staff also reviewed, considered, evaluated, and addressed the public comments received on the Draft EIS.

In addition to the proposed action, the NRC staff considered a reasonable range of alternatives, including the no-action alternative. Under the no-action alternative, the NRC would deny IIFP's request to construct and operate a depleted uranium deconversion facility in Hobbs, New Mexico. The no-action alternative serves as a baseline for comparison of the potential environmental impacts of the proposed action. Other alternatives the NRC staff considered but eliminated from further analysis include: (1) Alternative sites; (2) alternative technologies; (3) shipment of the U.S. generated DUF6 to overseas facilities; (4) indefinite storage at the enrichment facilities; and (5) construction and operation of deconversion facilities at the four U.S.-based uranium enrichment companies. These alternatives were eliminated from further analysis due to economic, environmental, or other reasons.

After weighing the impacts of the proposed action and comparing alternatives, the NRC staff, in accordance with 10 CFR 51.91(d), sets forth its recommendation regarding the proposed action. The NRC staff recommends that, unless safety issues mandate otherwise, the proposed license be issued to IIFP. In this regard, the NRC staff has concluded that the environmental impacts of the proposed action are generally small, and taken in combination with the proposed IIFP environmental monitoring program and proposed mitigation measures discussed in the Final EIS would eliminate or substantially lessen any adverse environmental impacts associated with the proposed action.

Document Availability

Documents related to this notice are available on the NRC's Licensing Web Site at: http://www.nrc.gov/materials/fuel-cycle-fac/inisfacility.html. The Final EIS for the proposed INIS project may also be accessed at: http://www.nrc.gov/reading-rm/doc-collections/nuregs/staff/ by selecting “NUREG-2113.”

The IIFP's license application, Environmental Report, and the NRC's Final EIS are available in ADAMS under Accession Numbers ML100630503, ML100120758, and ML12220A380.

A copy of the Final EIS will be available at the Hobbs Public Library, 509 North Shipp, Hobbs, New Mexico 88240.

Dated at Rockville, Maryland, this 22nd day of August, 2012.
For the Nuclear Regulatory Commission.
Gregory Suber,
Acting Deputy Director, Environmental Protection and Performance Assessment Directorate, Division of Waste Management and Environmental Protection, Office of Federal and State Materials and Environmental Management Programs.

[FR Doc. 2012-21486 Filed 8-30-12; 8:45 am]

BILLING CODE 7590-01-P